NUCLEAR REGULATORY COMMISSION

[Docket Nos. 50-269, 50-270, and 50-287]

Duke Energy Corporation; Oconee Nuclear Station Units 1, 2, and 3; Notice of Issuance of Renewed Facility Operating License; Nos. DPR-38, DPR-47, and DPR-55 for an Additional 20-Year Period

Notice is hereby given that the U.S. Nuclear Regulatory Commission (the Commission) has issued (1) Renewed Facility Operating License No. DPR-38 (the Unit 1 license), (2) Renewed Facility Operating License No. DPR-47 (the Unit 2 license), and (3) Renewed Facility Operating License No. DPR-55 (the Unit 3 license) to Duke Energy Corporation (the licensee). The Unit 1 license authorizes operation of the Oconee Nuclear Station, Unit 1 by the licensee at reactor core power levels not in excess of 2568 megawatts thermal in accordance with the provisions of the Unit 1 license and its Technical Specifications (Appendix A). The Unit 2 license authorizes operation of the Oconee Nuclear Station, Unit 2 by the licensee at rector core power levels not in excess of 2568 megawatts thermal in accordance with the provisions of the Unit 2 license at its Technical Specifications. The Unit 3 license authorizes operation of the Oconee Nuclear Station, Unit 3 by the licensee at reactor core power levels not in excess of 2568 megawatts thermal in accordance with the provisions of the Unit 3 license and its Technical Specifications.

Oconee Nuclear Station, Units 1, 2, and 3, are pressurized water nuclear reactors located in eastern Oconee County about 8 miles northeast of Seneca, South Carolina.

The application for the renewed licenses complies with the standards and requirements of the Atomic Energy Act of 1954, as amended (the Act), and the Commission's regulations. The Commission has made appropriate findings as required by the Act and the Commission's regulations in 10 CFR Chapter I, which are set forth in each license. Public notice of the proposed action and opportunity for hearing regarding the proposed issuance of these renewed operating licenses was published in the Federal Register on August 11, 1998 (63 FR 42885).

For further details with respect to these actions, see (1) The Duke Energy Corporation Oconee Nuclear Station Units 1, 2, and 3, Application for Renewed Operating Licenses, dated July 6, 1998, as supplemented by letter dated March 27, 2000, and by letters contained in Appendix E of NUREG-1723, “Safety Evaluation Report Related to the License Renewal of Oconee Nuclear Station, Units 1, 2, and 3,” (2) Renewed Facility Operating License Nos. DPR-38, DPR-47, and DPR-55, with the appendix listed above; (3) the Commission's Safety Evaluation Reports dated June 16, 1999, February 3, 2000, and March 2000 (NUREG-1723); (4) the licensee's updated final safety analysis report; and (5) the Commission's Final Environmental Impact Statement (NUREG-1437, Supplement 2), dated December 1996. These items are available at the NRC's Public Document Room, the Gelman Building, 2120 L Street NW., Washington, DC 20555-0001. In addition, documents that were issued after November 1, 1999, (e.g., NUREG-1723, and NUREG-1437, Supplement 2) can be viewed from the NRC Public Electronic Reading Room at http://www.nrc.gov/NRC/ADAMS/index.html.

A copy of the Renewed Facility Operating Licenses, Nos. DRP-38, DRP-47, and DPR-55, may be obtained upon request addressed to the U.S. Nuclear Regulatory Commission, Washington, DC 20555-0001, Attention: Director, Division of Licensing Project Management. Copies of the Safety Evaluation Report (NUREG-1723) and the Final Environmental Impact Statement (NUREG-137, Supplement 2) may be purchased from the National Technical Information Service, Springfield, Virginia 22161-0002 (telephone number 1-800-553-6847, <http://www.ntis.gov>), or the Superintendent of Documents, U.S. Government Printing Office, P.O. Box 37082, Washington, DC 20402-9328 (telephone number 202-512-1800, <http://www.access.gpo.gov/su_docs>). All orders should clearly identify the NRC publication number and the requestor's Government Printing Office deposit account, or VISA or Mastercard number and expiration date.

Dated at Rockville, Maryland, this 23rd day of May, 2000.
For the Nuclear Regulatory Commission.
Joseph M. Sebrosky,
Prject Manager, License Renewal and Standardization Branch, Division of Regulatory Improvement Programs, Office of Nuclear Reactor Regulation.

[FR Doc. 00-13457 Filed 5-26-00; 8:45 am]

BILLING CODE 7590-01-P